ENVIRONMENTAL PROTECTION AGENCY

40 CFR Part 52

[EPA-R04-OAR-2023-0273; FRL-12121-02-R4]

Air Plan Approval; FL; Surface Coating of Miscellaneous Metal Parts and Products Amendments

AGENCY: Environmental Protection Agency (EPA).

ACTION: Final rule.

SUMMARY: The Environmental Protection Agency (EPA) is approving a State Implementation Plan (SIP) revision submitted by the Florida Department of Environmental Protection (FDEP) on October 12, 2022. EPA is approving changes allowing the option for aerospace parts and products coating operations in Florida to comply with Federal National Emission Standards for Hazardous Air Pollutants (NESHAP) requirements in lieu of the volatile organic compound (VOC) standards in Florida's Surface Coating of Miscellaneous Metal Parts and Products (MMPP) rule (hereinafter referred to as FL MMPP Rule) in the Florida SIP. EPA has determined that the changes included in Florida's October 12, 2022, submission are consistent with the applicable provisions of the Clean Air Act (CAA or Act) and its implementing regulations.

DATES: This rule is effective October 28, 2024.

ADDRESSES: EPA has established a docket for this action under Docket Identification No. EPA-R04-OAR-2023-0273. All documents in the docket are listed on the regulations.gov website. Although listed in the index, some information may not be publicly available, i.e., Confidential Business Information or other information whose disclosure is restricted by statute. Certain other material, such as copyrighted material, is not placed on the internet and will be publicly available only in hard copy form. Publicly available docket materials are available either electronically through www.regulations.gov or in hard copy at the Air Regulatory Management Section, Air Planning and Implementation Branch, Air and Radiation Division, U.S. Environmental Protection Agency, Region 4, 61 Forsyth Street SW, Atlanta, Georgia 30303-8960. EPA requests that if at all possible, you contact the person listed in the FOR FURTHER INFORMATION CONTACT section to schedule your inspection. The Regional Office's official hours of business are Monday through Friday 8:30 a.m. to 4:30 p.m., excluding Federal holidays.

FOR FURTHER INFORMATION CONTACT: Simone Jarvis, Air Regulatory Management Section, Air Planning and Implementation Branch, Air and Radiation Division, Region 4, U.S. Environmental Protection Agency, 61 Forsyth Street SW, Atlanta, Georgia 30303-8960. The telephone number is (404) 562-8393. Ms. Jarvis can also be reached via electronic mail at Jarvis.Simone@epa.gov.

SUPPLEMENTARY INFORMATION:

I. Background

EPA is approving changes to the Florida SIP submitted by the State on October 12, 2022. The changes address the FL MMPP Rule—Rule 62-296.513, Surface Coating of Miscellaneous Metal Parts and Products, which provides specific reasonably available control technology (RACT) requirements for sources in Broward, Duval, Hillsborough, Miami-Dade, Orange, Palm Beach, or Pinellas Counties that apply surface coatings to any number of metal parts and products, to limit their VOC emission rates, including surface coating at aerospace manufacturing operations.¹ However, sources are exempt from this rule if they emit no more than 15 pounds in any one day and no more than three pounds in any one hour. The FL MMPP Rule was incorporated into the Florida SIP to address the RACT requirements for areas that were designated nonattainment for the 1979 1-hour ozone standard.² EPA redesignated these areas to attainment in 1995.³

¹ See Rule 62-296.500(3)(a).

² On November 6, 1991, EPA designated and classified the Miami-Fort Lauderdale-W. Palm Beach Area (i.e., Broward, Dade, and Palm Beach Counties) as moderate nonattainment for the 1979 1-hour ozone NAAQS; the Jacksonville Area (i.e., Duval County) as transitional nonattainment; the Tampa-St. Petersburg-Clearwater Area (i.e., Hillsborough and Pinellas Counties) as marginal nonattainment; and Orange County as attainment. See 56 FR 56694. Among the requirements applicable to nonattainment areas for the 1-hour ozone NAAQS was the requirement to amend the SIPs for areas to satisfy the requirements of section 183 of the CAA.

³ See 60 FR 41 for the Jacksonville, FL (Duval County) redesignation. See 60 FR 10325 for the Miami-Fort Lauderdale-W. Palm Beach, FL (Miami-Dade, Broward, and Palm Beach Counties) redesignation. See 60 FR 62748 for the Tampa-St. Petersburg-Clearwater, FL (Hillsborough and Pinellas Counties) redesignation.

Through a notice of proposed rulemaking (NPRM) published on July 30, 2024 (89 FR 61055), EPA proposed to approve changes to the State's MMPP Rule, which revises the SIP to provide that aerospace parts and products coating operations classified as area sources of hazardous air pollutants (HAPs) may, in lieu of complying with the VOC requirements of the FL MMPP Rule, instead comply with specified elements of EPA's NESHAP for Aerospace Manufacturing and Rework Facilities at 40 CFR part 63, subpart GG (Aerospace NESHAP). Major sources of HAPs, which are required to comply with the Aerospace NESHAP, would also be exempt from the FL MMPP Rule. In this rulemaking, EPA is finalizing its approval of Florida's October 12, 2022, request to incorporate the changes to the FL MMPP Rule into the Florida SIP. EPA's rationale for approving the changes is described in the July 30, 2024, NPRM. Comments on the July 30, 2024, NPRM were due on or before August 29, 2024. EPA received three sets of comments on the NPRM. EPA received two sets of substantively identical comments from the same commenter. These comments are addressed below and are available in the docket for this action. The third set of comments is not relevant to this action and is excluded from the docket.

II. Response to Comments

EPA received two substantively identical sets of comments on the July 30, 2024, NPRM from Clean Future (Commenter). EPA has summarized and responded to the comments below:

Comments: The Commenter supports EPA's action and suggests that “the EPA offer a thorough analysis of the anticipated decreases in VOC emissions as a consequence of these adjustments.” The Commenter goes on to “urge the EPA to make certain that the revised SIP offers sufficient assistance to impacted industries and contains explicit guidelines for compliance.” Lastly, the Commenter “recommend[s] that the EPA establish a mechanism for periodic review and adjustment of the regulations to incorporate new developments and address any unforeseen challenges.”

Response: EPA appreciates the Commenter's support for this action. Due to the general nature of the Commenter's requests and suggestions, EPA is only able to provide general responses.

The scope of EPA's review in evaluating SIP revisions is limited to the process in CAA section 110 and EPA's implementing regulations codified at 40 CFR part 51. Under CAA section 110, States have broad discretion to choose the mix of emission limitations and other control measures, means, or techniques that they will implement (or update) through a SIP to provide for attainment and maintenance of national ambient air quality standards (NAAQS). EPA's role, with respect to a SIP revision, is focused on reviewing the submission to determine whether it meets the minimum criteria of the CAA. These minimum criteria include CAA section 110(l) which prohibits EPA from approving a SIP revision that would interfere with any applicable requirement concerning attainment and reasonable further progress (as defined in section 171), or any other applicable requirement of the Act. Where a SIP revision meets the minimum CAA criteria, EPA must approve the submission. When approving a SIP revision, the Agency is not establishing its own requirements for the State to implement. If, at any time, EPA finds that a SIP is inadequate to attain or maintain the relevant NAAQS or otherwise does not comply with the CAA, EPA has the authority under CAA section 110(k)(5) to require the State to revise its SIP to correct such inadequacies.

Regarding the suggestion that EPA provide a thorough analysis of anticipated decreases in VOC emission associated with this SIP revision, EPA discussed the potential changes in VOC emissions in the NPRM, and the Commenter has not pointed to any specific concerns with EPA's analysis of VOC emissions. In the NPRM, EPA noted that the SIP revision would allow some sources to apply coatings with a higher VOC content, which has the potential to increase VOC emissions. However, EPA also noted that with all counties in Florida attaining the 1997, 2008, and 2015 ozone, as well as the 2006 and 2012 PM2.5 NAAQS, and anticipated to attain the 2024 PM2.5 NAAQS based on 2021-2023 monitoring data,⁴ it is unlikely that any de minimis increase in the potential to emit VOCs from aerospace coating operations facilities would impact any NAAQS.⁵ Thus, EPA has concluded that this SIP revision is consistent with the CAA and its implementing regulations and would not interfere with any applicable requirement concerning attainment and reasonable further progress (as defined in section 171), or any other applicable requirement of the Act.

⁴ See https://www.epa.gov/air-trends/air-quality-design-values.

⁵ There are six NAAQS established to protect human health and the environment. These NAAQS are carbon monoxide (CO), lead, nitrogen dioxide (NO2), ozone, particulate matter (PM)—including PM2.5 and PM10, and sulfur dioxide (SO2). EPA does not believe that there would be any changes in emissions of CO, lead, NO2, or SO2 from this change to the FL SIP.

EPA initially incorporated the FL MMPP Rule into the SIP as part of Florida's measures to attain and maintain the NAAQS.⁶ The SIP revision does not impose new requirements on the covered coating operations, but rather adds an exemption from an existing SIP requirement for sources that comply with the established standards of the Aerospace NESHAP. Given the limited nature of this SIP revision and EPA's role in reviewing SIP revisions discussed above, the Commenter's suggestion that the revised SIP provide industry assistance and contain explicit guidelines for compliance, as well as the Commenter's recommendation the EPA establish a mechanism for periodic review and adjustment of regulations to incorporate new developments and unforeseen challenges are beyond the scope of EPA's review. Regarding the Commenter's recommendation to establish a mechanism for periodic review and adjustment of regulations to incorporate new developments and challenges, EPA reiterates that it has the authority to issue a SIP call under CAA section 110(k)(5) if, at any time, it finds the SIP to be inadequate to attain or maintain the relevant NAAQS or otherwise does not comply with the CAA.

⁶ On November 6, 1991, EPA designated and classified the Miami-Fort Lauderdale-W. Palm Beach Area (i.e., Broward, Dade, and Palm Beach Counties) as moderate nonattainment for the 1979 1-hour ozone NAAQS; the Jacksonville Area (i.e., Duval County) as transitional nonattainment; the Tampa-St. Petersburg-Clearwater Area (i.e., Hillsborough and Pinellas Counties) as marginal nonattainment; and Orange County as attainment. See 56 FR 56694. Among the requirements applicable to nonattainment areas for the 1-hour ozone NAAQS was the requirement to amend the SIPs for areas to satisfy the requirements of section 183 of the CAA.

III. Incorporation by Reference

In this document, EPA is finalizing regulatory text that includes incorporation by reference. In accordance with the requirements of 1 CFR 51.5, and as discussed in Sections I and II of this preamble, EPA is finalizing the incorporation by reference of Florida Rule 62-296.513, F.A.C., Surface Coating of Miscellaneous Metal Parts and Products, State effective on June 16, 2022. EPA has made, and will continue to make, these materials generally available through www.regulations.gov and at the EPA Region 4 Office (please contact the person identified in the “For Further Information Contact” section of this preamble for more information). Therefore, these materials have been approved by EPA for inclusion in the State implementation plan, have been incorporated by reference by EPA into that plan, are fully federally enforceable under sections 110 and 113 of the CAA as of the effective date of the final rulemaking of EPA's approval, and will be incorporated by reference in the next update to the SIP compilation.⁷

⁷ See 62 FR 27968 (May 22, 1997).

IV. Final Action

EPA is approving the October 12, 2022, Florida SIP revision consisting of amendments to Rule 62-296.513, F.A.C., Surface Coating of Miscellaneous Metal Parts and Products, in the Florida SIP. EPA has evaluated Florida's October 12, 2022, SIP revision, and determined that the changes will not interfere with any applicable requirement concerning attainment or any other applicable requirement of the CAA.

V. Statutory and Executive Order Reviews

Under the CAA, the Administrator is required to approve a SIP submission that complies with the provisions of the CAA and applicable Federal regulations. See 42 U.S.C. 7410(k); 40 CFR 52.02(a). Thus, in reviewing SIP submissions, EPA's role is to approve State choices, provided that they meet the criteria of the CAA. Accordingly, this action merely approves State law as meeting Federal requirements and does not impose additional requirements beyond those imposed by State law. For that reason, this action:

• Is not a significant regulatory action subject to review by the Office of Management and Budget under Executive Orders 12866 (58 FR 51735, October 4, 1993) and 14094 (88 FR 21879, April 11, 2023);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not subject to Executive Order 13045 (62 FR 19885, April 23, 1997) because it approves a State program;

• Is not a significant regulatory action subject to Executive Order 13211 (66 FR 28355, May 22, 2001); and

• Is not subject to requirements of section 12(d) of the National Technology Transfer and Advancement Act of 1995 (15 U.S.C. 272 note) because application of those requirements would be inconsistent with the CAA.

In addition, the SIP is not approved to apply on any Indian reservation land or in any other area where EPA or an Indian Tribe has demonstrated that a Tribe has jurisdiction. In those areas of Indian country, the rulemaking does not have Tribal implications and will not impose substantial direct costs on Tribal governments or preempt Tribal law as specified by Executive Order 13175 (65 FR 67249, November 9, 2000).

Executive Order 12898 (Federal Actions To Address Environmental Justice in Minority Populations and Low-Income Populations, 59 FR 7629, February 16, 1994) directs Federal agencies to identify and address “disproportionately high and adverse human health or environmental effects” of their actions on communities with environmental justice (EJ) to the greatest extent practicable and permitted by law. EPA defines EJ as “the fair treatment and meaningful involvement of all people regardless of race, color, national origin, or income with respect to the development, implementation, and enforcement of environmental laws, regulations, and policies.” EPA further defines the term fair treatment to mean that “no group of people should bear a disproportionate burden of environmental harms and risks, including those resulting from the negative environmental consequences of industrial, governmental, and commercial operations or programs and policies.”

The FDEP did not evaluate EJ considerations as part of its SIP submittal; the CAA and applicable implementing regulations neither prohibit nor require such an evaluation. EPA did not perform an EJ analysis and did not consider EJ in this action. Consideration of EJ is not required as part of this action, and there is no information in the record inconsistent with the stated goal of E.O. 12898 of achieving environmental justice for communities with EJ concerns.

This action is subject to the Congressional Review Act, and EPA will submit a rule report to each House of the Congress and to the Comptroller General of the United States. This action is not a “major rule” as defined by 5 U.S.C. 804(2).

Under section 307(b)(1) of the CAA, petitions for judicial review of this action must be filed in the United States Court of Appeals for the appropriate circuit by November 26, 2024. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Carbon monoxide, Incorporation by reference, Intergovernmental relations, Lead, Nitrogen dioxide, Ozone, Particulate matter, Reporting and recordkeeping requirements, Sulfur oxides, Volatile organic compounds.

Dated: September 20, 2024.
Jeaneanne Gettle,
Acting Regional Administrator, Region 4.

For the reasons stated in the preamble, the EPA amends 40 CFR part 52 as follows:

PART 52—APPROVAL AND PROMULGATION OF IMPLEMENTATION PLANS

1. The authority citation for part 52 continues to read as follows:

Authority: 42 U.S.C. 7401 et seq.

Subpart K—Florida

2. In § 52.520 paragraph (c), amend the table by revising the entry for “62-296.513” to read as follows:

§ 52.520 Identification of plan.

* * * * *

(c) * * *

EPA-Approved Florida Laws and Regulations
State citation (section) | Title/subject | State effective date | EPA approval date | Explanation
Chapter 62-296 Stationary Sources—Emission Standards
* * * * * * *
62-296.513 | Surface Coating of Miscellaneous Metal Parts and Products | 6/16/2022 | 9/27/2024, [Insert first page of Federal Register citation] |
* * * * * * *

* * * * *

[FR Doc. 2024-22135 Filed 9-26-24; 8:45 am]

BILLING CODE 6560-50-P